INTERNATIONAL TRADE COMMISSION

[Investigation No. 731-TA-1733 (Preliminary)]

Methylene Diphenyl Diisocyanate (MDI Products) From China

Determination

On the basis of the record ¹ developed in the subject investigation, the United States International Trade Commission (“Commission”) determines, pursuant to the Tariff Act of 1930 (“the Act”), that there is a reasonable indication that an industry in the United States is materially injured by reason of imports of methylene diphenyl diisocyanate (MDI products) from China, provided for in statistical reporting numbers 2929.10.8010 and 3909.31.0000 of the Harmonized Tariff Schedule of the United States, that are alleged to be sold in the United States at less than fair value (“LTFV”).²

¹ The record is defined in § 207.2(f) of the Commission's Rules of Practice and Procedure (19 CFR 207.2(f)).

² Methylene Diphenyl Diisocyanate from the People's Republic of China: Initiation of less than fair value investigation; 90 FR 11710 (March 11, 2025).

Commencement of Final Phase Investigation

Pursuant to section 207.18 of the Commission's rules, the Commission also gives notice of the commencement of the final phase of its investigation. The Commission will issue a final phase notice of scheduling, which will be published in the Federal Register as provided in section 207.21 of the Commission's rules, upon notice from the U.S. Department of Commerce (“Commerce”) of an affirmative preliminary determination in the investigation under § 733(b) of the Act, or, if the preliminary determination is negative, upon notice of an affirmative final determination in that investigation under § 735(a) of the Act. Parties that filed entries of appearance in the preliminary phase of the investigation need not enter a separate appearance for the final phase of the investigation. Any other party may file an entry of appearance for the final phase of the investigation after publication of the final phase notice of scheduling. Industrial users, and, if the merchandise under investigation is sold at the retail level, representative consumer organizations have the right to appear as parties in Commission antidumping investigation. The Secretary will prepare a public service list containing the names and addresses of all persons, or their representatives, who are parties to the investigation. As provided in section 207.20 of the Commission's rules, the Director of the Office of Investigations will circulate draft questionnaires for the final phase of the investigation to parties to the investigation, placing copies on the Commission's Electronic Document Information System (EDIS, https://edis.usitc.gov), for comment.

Background

On February 12, 2025, the MDI Fair Trade Coalition, consisting of BASF Corporation, Florham Park, New Jersey and The Dow Chemical Company, Midland, Michigan, filed a petition with the Commission and Commerce, alleging that an industry in the United States is materially injured or threatened with material injury by reason of LTFV imports of MDI products from China. Accordingly, effective February 12, 2025, the Commission instituted antidumping duty investigation No. 731-TA-1733 (Preliminary).

Notice of the institution of the Commission's investigation and of a public conference to be held in connection therewith was given by posting copies of the notice in the Office of the Secretary, U.S. International Trade Commission, Washington, DC, and by publishing the notice in the Federal Register of February 19, 2025 (90 FR 9913). The Commission conducted its conference on March 5, 2025. All persons who requested the opportunity were permitted to participate.

The Commission made this determination pursuant to § 733(a) of the Act (19 U.S.C. 1673b(a)). It completed and filed its determination in this investigation on March 31, 2025. The views of the Commission are contained in USITC Publication 5606 (April 2025), entitled Methylene Diphenyl Diisocyanate (MDI Products) from China: Investigation No. 731-TA-1733 (Preliminary).

By order of the Commission.
Issued: March 31, 2025.
Lisa Barton,
Secretary to the Commission.

[FR Doc. 2025-05790 Filed 4-3-25; 8:45 am]

BILLING CODE 7020-02-P